NATIONAL ARCHIVES AND RECORDS ADMINISTRATION

Advisory Committee on Presidential Library-Foundation Partnerships

AGENCY: National Archives and Records Administration.

ACTION: Notice of meeting.

SUMMARY: In accordance with the Federal Advisory Committee Act, as amended (5 U.S.C. appendix 2), the National Archives and Records Administration (NARA) announces a meeting of the Advisory Committee on Presidential Library-Foundation Partnerships. The meeting will be held to discuss the National Archives and Records Administration budget for Presidential Libraries, program activities at the Presidential Libraries, and the status of the Agency's reorganization and transformation.

DATES: The meeting will be held on December 2, 2011 from 9 a.m. to 12 noon.

ADDRESSES: The Ronald Reagan Presidential Library and Museum, 40 Presidential Drive, Simi Valley, CA 93065.

FOR FURTHER INFORMATION CONTACT: Susan Donius, Acting Director, Office of Presidential Libraries, at the National Archives and Records Administration, 8601 Adelphi Road, College Park, Maryland 20740, telephone number (301) 837-3250. Contact the Presidential Libraries staff at denise.lebeck@nara.gov.

SUPPLEMENTARY INFORMATION: The meeting will be open to the public. Parking is available.

Dated: November 8, 2011.
Mary Ann Hadyka,
Committee Management Officer.

[FR Doc. 2011-29480 Filed 11-14-11; 8:45 am]

BILLING CODE 7515-01-P